DEPARTMENT OF ENERGY

Federal Energy Regulatory Commission

Combined Notice of Filings #1

Take notice that the Commission received the following electric rate filings:

Docket Numbers: ER12-212-000.

Applicants: Midwest Independent Transmission System Operator, Inc.

Description: Supplemental Attachment of Midwest Independent Transmission System Operator, Inc. and American Transmission Company, LLC.

Filed Date: 11/30/2011.

Accession Number: 20111130-5353.

Comment Date: 5 p.m. ET 12/7/11.

Docket Numbers: ER12-495-000.

Applicants: Bangor Hydro Electric Company.

Description: Filing of an Amended Interconnection Agreement to be effective 11/1/2011.

Filed Date: 11/30/11.

Accession Number: 20111130-5236.

Comments Due: 5 p.m. ET 12/21/11.

Docket Numbers: ER12-496-000.

Applicants: New England Power Pool Participants Committee, ISO New England Inc.

Description: ISO New England Inc. and New England Power Pool, Filing of Installed Capacity Requirements, Hydro Quebec Interconnection Capability Credits and Related Values for 2012/2013 and 2013/2014 Annual Reconfiguration Auctions.

Filed Date: 11/30/11.

Accession Number: 20111130-5246.

Comments Due: 5 p.m. ET 12/21/11.

Docket Numbers: ER12-497-000.

Applicants: Pacific Gas and Electric Company.

Description: Western WDT November 2011 Biannual Filing to be effective 2/1/2012.

Filed Date: 11/30/2011.

Accession Number: 20111130-5245

Comments Due: 5 p.m. ET 12/21/11.

Docket Numbers: ER12-498-000.

Applicants: Pacific Gas and Electric Company.

Description: Western IA November 2011 Biannual Filing to be effective 2/1/2012.

Filed Date: 11/30/11.

Accession Number: 20111130-5257.

Comments Due: 5 p.m. ET 12/21/11.

Docket Numbers: ER12-499-000.

Applicants: Southwestern Electric Power Company.

Description: ETEC and NTEC PSA to be effective 12/17/2010.

Filed Date: 11/30/11.

Accession Number: 20111130-5280.

Comments Due: 5 p.m. ET 12/21/11.

Docket Numbers: ER12-500-000.

Applicants: Southwestern Electric Power Company.

Description: TexLa ERCOT Restated PSA to be effective 12/17/2010.

Filed Date: 11/30/11.

Accession Number: 20111130-5285.

Comments Due: 5 p.m. ET 12/21/11.

Docket Numbers: ER12-501-000.

Applicants: New England Power Pool Participants Committee.

Description: Dec 2011 Membership Filing to be effective 11/1/2011.

Filed Date: 11/30/11.

Accession Number: 20111130-5319.

Comments Due: 5 p.m. ET 12/21/11.

Docket Numbers: ER12-502-000.

Applicants: California Independent System Operator Corporation

Description: 2011-11-30 CAISO GIP Phase II Amendment to be effective 1/31/2012.

Filed Date: 11/30/11.

Accession Number: 20111130-5325.

Comments Due: 5 p.m. ET 12/21/11.

Take notice that the Commission received the following PURPA 210(m)(3) filings:

Docket Numbers: QM12-2-000.

Applicants: Public Service Company of New Mexico.

Description: Application to Terminate PURPA Purchase Obligation for Qualifying Facility of Public Service Company of New Mexico.

Filed Date: 11/30/11.

Accession Number: 20111130-5342.

Comments Due: 5 p.m. ET 12/28/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2011.
Nathaniel J. Davis, Sr.,
Deputy Secretary.

[FR Doc. 2011-31610 Filed 12-8-11; 8:45 am]

BILLING CODE 6717-01-P